ENVIRONMENTAL PROTECTION AGENCY

40 CFR Part 52

[PA203-4209a; FRL-7570-7]

Approval and Promulgation of Air Quality Implementation Plans; Pennsylvania; VOC and NOX RACT Determinations for Five Individual Sources

AGENCY: Environmental Protection Agency (EPA).

ACTION: Direct final rule.

SUMMARY: EPA is taking direct final action to approve revisions to the Commonwealth of Pennsylvania's State Implementation Plan (SIP). The revisions were submitted by the Pennsylvania Department of Environmental Protection (PADEP) to establish and require reasonably available control technology (RACT) for five major sources of volatile organic compounds (VOC) and nitrogen oxides (NOX) located in Pennsylvania. EPA is approving these revisions to establish RACT requirements in the SIP in accordance with the Clean Air Act (CAA).

DATES: This rule is effective on December 16, 2003, without further notice, unless EPA receives adverse written comment by November 17, 2003. If EPA receives such comments, it will publish a timely withdrawal of the direct final rule in the Federal Register and inform the public that the rule will not take effect.

ADDRESSES: Comments may be submitted either by mail or electronically. Written comments should be mailed to Makeba Morris, Chief, Air Quality Planning Branch, Mailcode 3AP21, U.S. Environmental Protection Agency, Region III, 1650 Arch Street, Philadelphia, Pennsylvania 19103. Electronic comments should be sent either to morris.makeba@epa.gov or to http://www.regulations.gov, which is an alternative method for submitting electronic comments to EPA. To submit comments, please follow the detailed instructions described in Part IV of the SUPPLEMENTARY INFORMATION section. Copies of the documents relevant to this action are available for public inspection during normal business hours at the Air Protection Division, U.S. Environmental Protection Agency, Region III, 1650 Arch Street, Philadelphia, Pennsylvania 19103; and the Pennsylvania Department of Environmental Resources, Bureau of Air Quality Control, P.O. Box 8468, 400 Market Street, Harrisburg, Pennsylvania 17105.

FOR FURTHER INFORMATION CONTACT: Rose Quinto at (215) 814-2182, or via e-mail at quinto.rose@epa.gov.

SUPPLEMENTARY INFORMATION:

I. Background

Pursuant to sections 182(b)(2) and 182(f) of the CAA, the Commonwealth of Pennsylvania (the Commonwealth or Pennsylvania) is required to establish and implement RACT for all major VOC and NOX sources. The major source size is determined by its location, the classification of that area, and whether it is located in the ozone transport region (OTR). Under section 184 of the CAA, RACT, as specified in sections 182(b)(2) and 182(f) applies throughout the OTR. The entire Commonwealth is located within the OTR. Therefore, RACT is applicable statewide in Pennsylvania.

II. Summary of the SIP Revision

On February 4, 2003, PADEP submitted formal revisions to its SIP to establish and impose case-by-case RACT for several major sources of VOC and NOX. This rulemaking pertains to five of those sources. The other sources are subject to separate rulemaking actions. The RACT determinations and requirements in this SIP revision are included in operating permits (OP) issued by PADEP.

The following table identifies the individual operating permit that EPA is approving for each source located in Pennsylvania.

VOC and NOX RACT Determinations for Individual Sources
Source | County | Op No. | Source type | Major source pollutant
Keystone Carbon Company | Elk | OP 24-016 | Powder Metal Parts Manufacturing | VOC
Mack Trucks, Inc. | Northampton | 39-0004 | Heavy Duty Trucks Assembly | VOC & NOX
Owens-Brockway Glass Container, Inc | Jefferson | OP 33-033 | Glass Melting | NOX
Resilite Sports Products, Inc. | Northumberland | OP-49-0003 | Wrestling Mat Manufacturing Operations | VOC
Westfield Tanning Company | Tioga | OP-59-0008 | Leather Manufacturing | VOC

A. Keystone Carbon Company

Keystone Carbon Company operates a powder metal parts and self-lube bearings manufacturing facility located in Elk County, Pennsylvania and is considered a major source of VOC. In this instance, RACT has been established and imposed by PADEP in an operating permit. On February 4, 2003, PADEP submitted operating permit No. OP 24-016 to EPA as a SIP revision. The permit lists the following sources and their respective control devices: (1) Powder blending process—methanol condensation system, (2) sintering ovens—pilot light (flare), (3) primary processing (hot forming)—0.08 pounds methanol/pound hot formed product, (4) heat treating (three tempering furnaces)—thermal oxidizers, (5) heat treating (two draw furnaces)—electrostatic precipitator, (6) heat treating (two induction hardening machines)—electrostatic precipitator, and (7) miscellaneous plant heating units. The permit contains a requirement for the facility to implement the RACT plan as defined in 25 Pa. Code Chapter 129 section 129.91. The permit also contains a requirement to maintain and operate facility degreasers (sealing and parts cleaning) in accordance with 25 Pa. Code Chapter 129 section 129.63. In addition, the permit contains the primary processing methanol (MeOH) emission limit of 0.08 pounds per pound of hot formed part produced. Records shall be maintained for the methanol usage and hot formed parts produced. Records shall also be maintained in accordance with 25 Pa. Code Chapter 129 section 129.95 and shall be made available to PADEP upon request.

B. Mack Trucks, Inc.

Mack Trucks, Inc., Macungie Assembly facility is located in Lower Macungie Township, Northampton County, Pennsylvania. Heavy duty trucks are assembled at the facility and it is considered a major source of VOC and NOX. In this instance, RACT has been established and imposed by PADEP in an operating permit. On February 4, 2003, PADEP submitted operating permit No. 39-0004 to EPA as a SIP revision. This permit requires Mack Trucks, Inc. and any associated air cleaning devices to be operated and maintained in a manner consistent with good operating and maintenance practices. The permit lists the following sources that are regulated under the Commonwealth's presumptive RACT requirements: (a) Four (4) 6-cylinder engines, two (2) Cummin series NT-85-5-f2, one (1) Caterpillar series 3304 and one (1) Detroit series 92 engine which are limited to an annual capacity factor of less than five percent, or (b) an emergency standby engine operating less than 500 hours in a consecutive 12-month period. These sources shall be operated and maintained in accordance with good air pollution control practices. The permit contains a NOX RACT emission limit of 441 gallons fuel oil/hour/boiler for the three (3) 67.1 MMBTU/hour cleaner Brooks boilers. The permit also contains a VOC RACT emission limit for clean-up solvent usage, 91.0 tons per year, for the entire facility. All cleaning operations are required to store new and used cleaning solvents in closed containers. A record of the quantity and identity of all VOC solvents used in clean-up operations for the entire facility are required to be recorded on an annual basis. These records shall be submitted to PADEP, in an approved format, within 90 days after the end of the year.

The VOC RACT for the facility is regulated by source and listed below:

1. Small Parts/Oven (39-318-088)

(a) The operation of this source is limited to 12,500 trucks per year.

(b) The maximum VOC emissions limit from this source is 175.0 pounds per day and 21.9 tons per year based on coating usage.

(c) The maximum coating usage for this source is 50 gallons per day and 12,500 gallons per year.

(d) The limit for all coatings used in this source shall not exceed an in-line average of 3.5 pounds per gallon minus water for any 24-hour period.

(e) The facility is required to keep on hand chemical composition data for all coatings used by this source, and to record on a daily basis all coatings and any VOC solvent or thinner usage. These data are to be submitted to PADEP in an approved format on a quarterly basis within 30 days after the end of the quarter.

2. Cab Color Spray Paint Booth/Undercoat and Oven (39-318-090)

(a) The operation of this source is limited to 12,500 trucks per year.

(b) The maximum VOC emissions limit from the cab operation is 612.5 pounds per day and 76.6 tons per year based on coating usage.

(c) The maximum coating usage for the cab color operation is 175 gallons per day and 43,750 gallons per year.

(d) The limit for all coatings used in this source shall not exceed an in-line average of 3.5 pounds per gallon minus water for any 24-hour period.

(e) The facility is required to keep on hand chemical composition data for all coatings used by the cab coating operation, and to record on a daily basis all coatings and any VOC solvent or thinner usage. These data are to be submitted to PADEP in an approved format on a quarterly basis within 30 days after the end of the quarter.

(f) The facility is required to record the quantity and identify all VOC solvents used for clean up purposes for the entire plant facility on an annual basis and submitted to PADEP in an approved format within 90 days after the end of the year.

(g) The maximum VOC emissions limit from the undercoat operation is 153.5 pounds per day and 19.2 tons per year based on coating usage.

(h) The maximum coating usage for the undercoat operation is 50 gallons per day and 12,500 gallons per year.

(i) The limit for all coatings for the undercoating operation is 3.07 pounds VOC per gallon.

(j) The facility is required to keep on hand chemical composition data for all coatings used by the undercoat operation, and to record on a daily basis all coatings and any VOC solvent or thinner usage. These data are to be submitted to PADEP in an approved format on a quarterly basis within 30 days after the end of the quarter.

3. Final Touch-Up Paint Spray Booth and Oven (39-318-091)

(a) The operation of this source is limited to 50 trucks per day, 250 trucks per week and 12,500 trucks per year.

(b) The maximum VOC emissions limit from this source is 87.5 pounds per day and 10.9 tons per year based on coating usage.

(c) The maximum coating usage from this source is 25 gallons per day and 6,250 gallons per year.

(d) The limit for all coatings used in this source shall not exceed an in-line average of 3.5 pounds per gallon minus water for any 24-hour period.

(e) The facility is required to keep on hand chemical composition data for all coatings used by this source, and to record on a daily basis all coatings and any VOC solvent or thinner usage. These data are to be submitted to PADEP in an approved format on a quarterly basis within 30 days after the end of the quarter.

4. “O” Line Chassis Paint Spray Booth (39-318-092)

(a) The operation of this source is limited to 50 trucks per day, 250 trucks per week and 12,500 trucks per year.

(b) The maximum VOC emissions limit from this source is 87.5 pounds per day and 10.9 tons per year based on coating usage.

(c) The maximum coating usage for this source is 25 gallons per day and 6,250 gallons per year.

(d) The limit for all coatings used in an in-line average for this source is 3.5 pounds per gallon minus water for any 24-hour period.

(e) The facility is required to keep on hand chemical composition data for all coatings used by this source, and to record on a daily basis all coatings and any VOC solvent or thinner usage. These data are to be submitted to PADEP in an approved format on a quarterly basis within 30 days after the end of the quarter.

5. “G” Line Chassis Paint Spray Booth and Oven With “H” Chassis (39-318-093 and 39-318-095)

(a) The “G” and “H” line chassis paint booths and ovens are limited to a total of 12,500 trucks per year, this limit maybe distributed between either chassis line.

(b) The maximum VOC emissions limit from this source and the “H” line chassis paint spray booths and ovens are 1,455.5 pounds per day and 180.5 tons per year based on coating usage. These limits can be distributed between either chassis line.

(c) The maximum coating usage for these sources, are 413 gallons per day and 103,125 gallons per year. These limits can be distributed between either chassis line.

(d) The limit coatings used in these sources shall not exceed 3.5 pounds per gallon minus water for any 24-hour period.

(e) The facility is required to keep on hand chemical composition data for all coatings used by these sources, and to record on a daily basis all coatings and any VOC solvent or thinner usage. These data are to be submitted to PADEP, in an approved format, on a quarterly basis within 30 days after the end of the quarter.

6. Multi-Tone Paint Spray Booth and Oven (39-318-094)

(a) The operation of this source is limited to12,500 trucks per year.

(b) The maximum VOC emissions limit from this source is 133 pounds per day and 16.4 tons per year based on coating usage.

(c) The maximum coating usage from this source shall not exceed 38 gallons per day and 9.375 gallons per year.

(d) The limit coatings used in this source shall not exceed an in-line average of 3.5 pounds per gallon minus water for any 24-hour period.

(e) The facility is required to keep on hand chemical composition data for all coatings used by this source, and to record on a daily basis all coatings and any VOC solvent or thinner usage. These data are to be submitted to PADEP, in an approved format, on a quarterly basis within 30 days after the end of the quarter.

The facility shall maintain a file containing all records and other data that are required to be collected, pursuant to 25 Pa. Code Chapter 129 section 129.95, these records provide sufficient data and calculations to clearly demonstrate the requirements of 25 Pa. Code Chapter 129 sections 129.91-4 are met. The file shall include, but not be limited to: (1) Quality of fuel used on a daily basis, (2) total facility VOC emission calculated on a monthly basis (12-month rolling sum), and (3) all air pollution control systems performance evaluations and records of calibration checks, adjustments and maintenance performed on all equipment which is subject to the operating permit. All measurements, records and other data required to be maintained by the facility shall be retained for at least two years following the date on which such measurements, records or data are recorded. If requested by PADEP, the facility shall perform a stack test in accordance with the provisions of 25 Pa. Code Chapter 139 within the time specified by PADEP.

C. Owens-Brockway Glass Container, Inc.

Owens-Brockway Glass Container, Inc. is a facility located in Jefferson County, Pennsylvania that processes glass containers and is considered a major source of NOX. In this instance, RACT has been established and imposed by PADEP in an operating permit. On February 4, 2003, PADEP submitted operating permit No. OP 33-033 to EPA as a SIP revision. The permit contains NOX emission limits for “A” and “B” glass melting furnaces of 5.5 pounds per ton per furnace of glass melted in the furnace. “A” and “B” glass melting furnaces shall be stack tested for NOX emissions on an annual schedule (once per calendar year), commencing no later than May 31, 1995. Stack testing shall be performed in accordance with 25 Pa. Code Chapter 139 for NOX emissions from stationary sources. If, after three consecutive annual tests, emission data consistently shows compliance with established RACT emission limits, the testing frequency may be altered as determined by PADEP. At least 30 days prior to stack testing, a pretest protocol shall be submitted to PADEP. The protocol shall include sampling port locations, specification of test methods, procedures and equipment, and additional applicable information regarding planned test protocol. In addition, at least two weeks prior to testing, PADEP shall be informed of the date and time of testing. Within 60 days after the testing, two copies of the complete test reports, including operational parameters, shall be submitted to PADEP for approval.

D. Resilite Sports Products, Inc.

Resilite Sports Products, Inc. (Resilite) operates a spray coating system for the production of wrestling mats. The facility in Northumberland County, Pennsylvania is considered a major source of VOC. In this instance, RACT has been established and imposed by PADEP in an operating permit. On February 4, 2003, PADEP submitted operating permit No. OP-49-0003 to EPA as a SIP revision. This permit requires Resilite and any associated air cleaning devices to be operated and maintained in a manner consistent with good operating and maintenance practices. The permit incorporates RACT determinations as required by the provisions of Title I of the CAA and 25 Pa. Code Chapter 129 sections 129.91 through 129.95 for the following wrestling mat manufacturing operations: (a) Adhesive application operations—one (1) spray booth and one (1) spray station, (b) mat finish and cure operations—four (4) spray bays, (c) mat reconditioning operations, (d) spray equipment cleanup operations, (e) air stripper—remediation of contaminated groundwater, and (f) one (1) 16,800,000 BTU per hour No. 2 fuel oil-fired Continental boiler.

The permit contains a combined VOC emissions limit for all operations existing at this facility, other than the air stripper and the boiler, of a total of 1,575 tons for the period beginning upon the date of issuance of this permit and ending three years from said date; a total of 725 tons during any consecutive 12-month period occurring within the previously referenced three year period, and a total of 425 tons during any consecutive 12-month period occurring after the conclusion of the previously referenced three year period. The permit also contains the following VOC limits: (a) 5.98 pounds per gallon of adhesive (minus water), as applied; (b) 6.83 pounds per gallon of organic solvent-based mat coating material (minus water), as applied; and (c) 1.0 pound per gallon of water-based mat coating material (minus water) as applied. In addition, no equipment shall be cleaned with VOC-containing solvents or cleaning materials other than spray guns and spray gun components. The cleaning of all spray guns and spray gun components shall consist of soaking these items in closed containers of cleaning solvents. Under no circumstance shall VOC containing solvents be sprayed into the atmosphere. All containers of VOC containing adhesives, mat coating materials, and cleaning solvents shall be kept closed except when transferring material into or out of the containers.

The permit contains potential to emit VOC limits of three (3) pounds per hour, 15 pounds per day or 2.7 tons per year, for the air stripper, and the Continental boiler. A detailed RACT analysis which meets the criteria specified in 25 Pa. Code Chapter 129 section 129.92, must be submitted to PADEP for each source if any of these limits are exceeded. In addition, the Continental boiler is to be fired on gas (natural or LP) or No. 2 fuel oil, to which there had been no reclaimed, waste oil or other waste material added. The facility shall, upon request by PADEP, provide fuel analyses, or fuel samples, of the fuel used in the boiler.

Resilite is required to maintain copies of manufacturer's formulation or composition data sheets for all adhesives, mat coating materials, cleaning solvents, and other VOC-containing materials used within the previous two years and shall make this if available to PADEP. These data sheets are to contain all of the information needed to determine compliance with the VOC emission limits. Resilite is also required to maintain a mat reconditioning/cleanup solvent log in which the following data are recorded: (a) Identification, quantities and dates of use of all VOC-containing solvents used for mat reconditioning; (b) identification, quantities and dates of all VOC-containing solvents used for cleanup of spray guns and spray gun components; (c) identification, quantities and dates of all VOC-containing solvents used for cleanup purposes other than mat reconditioning and spray gun cleanup; and (d) quantities and dates of shipment for all spent mat reconditioning solvent and cleanup solvent shipped offsite for disposal or recycle. This information is to be retained for at least two years and made available to PADEP upon request.

Resilite shall implement the “Employee Training Program” and “Leak Detection and Maintenance Program” for all new and existing Resilite employees involved in adhesive application, mat coating material application, mat reconditioning and spray equipment cleanup activities. This training will also address the requirements of this permit as well as the requirements of any applicable state and federal regulations.

The permit contains recordkeeping requirements pursuant to 25 Pa. Code Chapter 129 section 129.95. Resilite shall keep accurate, comprehensive records sufficient to demonstrate compliance with the RACT requirements specified in this permit and shall, at a minimum, include the following: (a) Identity and amount of each adhesive used per month as well as identify and amount of any thinner added to the adhesive, (b) the mix ratio (gallons of thinner per gallon of adhesive) for each batch of adhesive used to which the thinner was added, (c) identity and amount of mat coating material used per month as well as the identity and amount of any thinner added to the mat coating material, (d) the mix ratio (gallons of thinner per gallon of coating material) for each batch of coating material used to which the thinner was added, and (e) gallons of groundwater processed through the air stripper per year as well as the VOC concentration in the influent to the air stripper, that is determined at least once per calendar quarter.

E. Westfield Tanning Company

Westfield Tanning Company is a leather manufacturing facility located in Tioga County, Pennsylvania and is considered a major source of VOC. In this instance, RACT has been established and imposed by PADEP in an operating permit. On February 4, 2003, PADEP submitted operating permit No. OP-59-0008 to EPA as a SIP revision. This permit requires Westfield Tanning Company and any associated air cleaning devices to be operated and maintained in a manner consistent with good operating and maintenance practices. The permit incorporates RACT determinations as required by the provisions of Title I of the CAA and 25 Pa. Code Chapter 129 sections 129.91 through 129.95 for the following sources: (1) Leather tanning operation consisting of the following: (a) tanning solutions prep room, (b) tanning solutions storage tank, and (c) tanning vats; (2) leather waterproofing operations consisting of the following: (a) four 165 gallon custom designed leather dip tanks (Tanks 1-4), (b) one 135 gallon custom designed leather dip tank (Tank 5), (c) one 475 gallon custom designed leather dip tank (Tank 6), and (d) one leather drying room; (3) two 750 horsepower natural gas/No. 2 fuel oil fired Johnson boilers; (4) three Safety Kleen degreasing sinks; (5) a gasoline storage consisting of a 250 gallon capacity horizontal gasoline storage vessel; (6) kerosene cleaning of the leather splitting blades; and (7) sponge solution fungicide leather treatment.

The permit contains a maximum VOC emission limit from the leather tanning operation of 11.4 tons in any 12 consecutive month period. The facility shall provide training to all employees involved in handling of VOC-containing materials associated with the leather tanning operation. The training shall, at a minimum, address the topics of VOC emission minimization techniques and good housekeeeping practices. The facility is required to maintain comprehensive, accurate records for the leather tanning operation in accordance with 25 Pa. Code Chapter 129 section 129.95 which, at a minimum, shall include monthly usage records for all VOC-containing materials associated with the tanning operation. These records shall be retained for a minimum of two years and made available to PADEP upon request.

The leather waterproofing operation requirements in the permit are pursuant to the RACT provisions of 25 Pa. Code Chapter 129 sections 129.91 through 129.95, and the Best Available Control Technology provisions of 25 Pa. Code Chapter 127 sections 127.1 and 127.12. The permit contains a maximum VOC emissions limit from the leather waterproofing operation of 55 tons in any 12 consecutive month period. All materials added to each waterproofing dip tank shall contain, in aggregate, no more than 5.5 pounds of VOC per gallon. Compliance is determined based on a quarterly average VOC content to be calculated based on all material additions to each tank in a given calendar quarter. All dip tanks shall be kept closed when not in actual use. The facility shall provide training to all employees involved in the waterproofing operation. The training shall, at a minimum, address the topics of VOC emission minimization techniques and good housekeeping practices. In addition, the wetting of cleaning rags associated with the waterproofing operation shall be done using a closed top cleanup solvent plunger cans and no waste cleanup solvents, either in bulk or remaining in used remaining in used cleanup rags, shall be disposed of through evaporation.

The facility shall maintain comprehensive, accurate records for the leather waterproofing tanning operation in accordance with 25 Pa. Code Chapter 129 section 129.95 and the Best Available Technology provisions of 25 Pa. Code Chapter 127 sections 127.1 and 127.12 which, at a minimum, shall include the following with respect to each waterproofing dip tank incorporated in the waterproofing operation to which diluents (thinners, reducers, etc.) and/or any other VOC-containing material, other than dipping compounds are added: (1) The types and amount of dipping compounds added to each dip tank and the dates of addition, and (2) the types and amounts of any diluents and/or any other VOC-containing materials added to each dip tank and the dates of addition. For each waterproofing dip tank incorporated in the waterproofing operation to which a dipping compound is added, the facility shall maintain records of the type and amounts of dipping compound added to the tank. In addition, the facility shall also maintain separate records of all cleanup solvents used in the waterproofing operation. The records generated for each calendar quarter shall be submitted to PADEP by no later than the thirtieth day of the month following the respective calendar quarter.

The permit contains a potential to emit VOC emission limits of 3 pounds per hour, 15 pounds per day, or 2.7 tons per year for the following sources: (1) Two (2) Johnson boilers, (2) three (3) Safety Kleen degreasing sinks, (3) a 250 gallon capacity horizontal gasoline storage vessel, (4) kerosene cleaning of the leather splitting blades, and (5) sponge solution fungicide leather treatment. The two Johnson boilers are to be fired only on gas (natural or LP) or No. 2 fuel oil to which no reclaimed or waste oil or other waste materials have been added. The facility shall provide fuel analyses or fuel samples of the fuel used by the two boilers upon request by PADEP.

The facility shall also maintain comprehensive, accurate records for the following sources in accordance with 25 Pa. Code Chapter 129 section 129.95 which, at a minimum, shall include the following: (1) The amounts of natural gas and No. 2 fuel oil used, per calendar year, in each of the boilers, (2) the amount of degreasing solvent used and the amount of spent degreasing solvent shipped offsite, as liquid hazardous waste, per calendar year, for the degreasing sinks, (3) the amount of gasoline stored, per calendar year, in the gasoline storage tank, (4) the amount of kerosene used, per calendar year, for cleaning the leather splitting blades, and (5) the amount of sponge solution fungicide used, per calendar year, in the leather treatment operation. The facility shall retain these records onsite for at least two years and made available to PADEP upon request.

III. EPA's Evaluation of the SIP Revisions

EPA is approving these SIP submittals because the Commonwealth established and imposed requirements in accordance with the criteria set forth in SIP-approved regulations for imposing RACT or for limiting a source's potential to emit. The Commonwealth has also imposed record-keeping, monitoring, and testing requirements on these sources sufficient to determine compliance with these requirements.

IV. Final Action

EPA is approving revisions to the Commonwealth of Pennsylvania's SIP which establish and require RACT for the five major sources of VOC and NOX listed in this document. EPA is publishing this rule without prior proposal because we view this as a noncontroversial amendment and anticipate no adverse comment. However, in the “Proposed Rules” section of today's Federal Register, EPA is publishing a separate document that will serve as the proposal to approve the SIP revision if adverse comments are filed. This direct final rule will be effective on December 16, 2003, without further notice unless we receive adverse comment by November 17, 2003. If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

You may submit comments either electronically or by mail. To ensure proper receipt by EPA, identify the appropriate rulemaking identification number PA203-4209 in the subject line on the first page of your comment. Please ensure that your comments are submitted within the specified comment period. Comments received after the close of the comment period will be marked “late.” EPA is not required to consider these late comments.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. E-mail. Comments may be sent by electronic mail (e-mail) to morris.makeba@epa.gov, attention: PA203-4209. EPA's e-mail system is not an “anonymous access” system. If you send an e-mail comment directly without going through Regulations.gov, EPA's e-mail system automatically captures your e-mail address. E-mail addresses that are automatically captured by EPA's e-mail system are included as part of the comment that is placed in the official public docket, and made available in EPA's electronic public docket.

ii. Regulations.gov. Your use of Regulation.gov is an alternative method of submitting electronic comments to EPA. Go directly to http://www.regulations.gov, then select “Environmental Protection Agency” at the top of the page and use the “go” button. The list of current EPA actions available for comment will be listed. Please follow the online instructions for submitting comments. The system is an “anonymous access” system, which means EPA will not know your identity, e-mail address, or other contact information unless you provide it in the body of your comment.

iii. Disk or CD ROM. You may submit comments on a disk or CD ROM that you mail to the mailing address identified in the ADDRESSES section of this document. These electronic submissions will be accepted in WordPerfect, Word or ASCII file format. Avoid the use of special characters and any form of encryption.

2. By Mail. Written comments should be addressed to the EPA Regional office listed in the ADDRESSES section of this document.

For public commenters, it is important to note that EPA's policy is that public comments, whether submitted electronically or in paper, will be made available for public viewing at the EPA Regional Office, as EPA receives them and without change, unless the comment contains copyrighted material, confidential business information (CBI), or other information whose disclosure is restricted by statute. When EPA identifies a comment containing copyrighted material, EPA will provide a reference to that material in the version of the comment that is placed in the official public rulemaking file. The entire printed comment, including the copyrighted material, will be available at the Regional Office for public inspection.

Submittal of CBI Comments

Do not submit information that you consider to be CBI electronically to EPA. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the official public regional rulemaking file. If you submit the copy that does not contain CBI on disk or CD ROM, mark the outside of the disk or CD ROM clearly that it does not contain CBI. Information not marked as CBI will be included in the public file and available for public inspection without prior notice. If you have any questions about CBI or the procedures for claiming CBI, please consult the person identified in the FOR FURTHER INFORMATION CONTACT section.

Considerations When Preparing Comments to EPA

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate regional file/rulemaking identification number in the subject line on the first page of your response. It would also be helpful if you provided the name, date, and Federal Register citation related to your comments.

V. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for five named sources.

C. Petitions for Judicial Review

Under section 307(b)(1) of the Clean Air Act, petitions for judicial review of this action must be filed in the United States Court of Appeals for the appropriate circuit by December 16, 2003. Filing a petition for reconsideration by the Administrator of this final rule does not affect the finality of this rule for the purposes of judicial review nor does it extend the time within which a petition for judicial review may be filed, and shall not postpone the effectiveness of such rule or action. This action approving the Pennsylvania's source-specific RACT requirements to control VOC and NOX from five individual sources may not be challenged later in proceedings to enforce its requirements. (See section 307(b)(2).)

List of Subjects in 40 CFR Part 52

Environmental protection, Air pollution control, Incorporation by reference, Nitrogen dioxide, Ozone, Reporting and recordkeeping requirements, Volatile organic compounds.

Dated: September 29, 2003.
James W. Newsom,
Acting Regional Administrator, Region III.

40 CFR part 52 is amended as follows:

PART 52—[AMENDED]

1. The authority citation for part 52 continues to read as follows:

Authority: 42 U.S.C. 7401 et seq.

Subpart NN—Pennsylvania

2. Section 52.2020 is amended by adding paragraph (c)(207) to read as follows:

§ 52.2020 Identification of plan.

* * * * *

(c) * * *

(207) Revisions pertaining to VOC and NOX RACT for major sources submitted on February 4, 2003.

(i) Incorporation by reference.

(A) Letter submitted on February 4, 2003 by the Pennsylvania Department of Environmental Protection transmitting source-specific VOC and/or NOX RACT determinations, in the form of plan approvals or operating permits.

(B) The following Operating Permits (OP):

(1) Keystone Carbon Company, Elk County, OP 24-016, effective May 15, 1995.

(2) Mack Trucks, Inc., Northampton County, 39-0004, effective May 31, 1995.

(3) Owens-Brockway Glass Container, Inc., Jefferson County, OP 33-033, effective March 27, 1995.

(4) Resilite Sports Products, Inc., Northumberland County, OP-49-0003, effective December 3, 1996.

(5) Westfield Tanning Company, Tioga County, OP-59-0008, effective November 27, 1996.

(ii) Additional Material.

(A) Other materials submitted by the Commonwealth of Pennsylvania in support of and pertaining to the RACT determinations for the sources listed in paragraph (c)(207)(i) of this section.

(B) [Reserved]

[FR Doc. 03-26191 Filed 10-16-03; 8:45 am]

BILLING CODE 6560-50-P